DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with May anniversary dates. In accordance with the Department's regulations, we are initiating those administrative reviews.

DATES: Effective Date: July 10, 2012.

FOR FURTHER INFORMATION CONTACT: Brenda E. Waters, Office of AD/CVD Operations, Customs Unit, Import Administration, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with May anniversary dates.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (“Act”). Further, in accordance with 19 CFR 351.303(f)(3)(ii), a copy of each request must be served on the petitioner and each exporter or producer specified in the request.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that, with regard to reviews requested on the basis of anniversary months on or after August 2011, the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this Proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than May 31, 2013.

| Period to be reviewed
Antidumping Duty Proceedings
Belgium:
Stainless Steel Plate in Coils, A-423-808 | 5/1/11-4/30/12
Aperam Stainless Belgium N.V. (ASB)
Canada:
Citric Acid and Certain Citrate Salt, A-122-853 | 5/1/11-4/30/12
Jungbunzlauer Canada Inc.
France:
Antifriction Bearings, Ball, A-427-801 | 5/1/11-9/14/11
Kongskilde Limited
NTN-SNR Roulements, S.A.
SKF France S.A. and SKF Aerospace France S.A.S.
Germany:
Antifriction Bearings, Ball, A-428-801 | 5/1/11-9/14/11
Audi AG
Bayerische Motoren Werke AG
Kongskilde Limited
myonic GmbH
Schaeffler Technologies GmbH & Co. KG (formerly known as Schaeffler KG)
SKF GmbH
Volkswagen AG
Volkswagen Zubehor GmbH
W&H Dentalwerk Burmoos GmbH
Italy:
Antifriction Bearings, Ball, A-475-801 | 5/1/11-9/14/11
SKF Industrie S.p.A. and Somecat S.p.A.
Schaeffler Italia SpA
Republic of Korea:
Certain Polyester Staple Fiber, A-580-839 | 5/1/11-4/30/12
Huvis Corporation
Saehan Industries, Inc.
Woongjin Chemical Company, Ltd.
Taiwan:
Certain Circular Welded Carbon Steel Pipes and Tubes, A-583-008 | 5/1/11-4/30/12
Chung Hung Steel Corp.
Kao Hsing Chang Iron & Steel Corp., also known as Kao Hsiung Chang
Iron & Steel Corp.
Shin Yang Steel Co., Ltd.
Tension Steel Industries Co. Ltd.
Polyester Staple Fiber, A-583-833 | 5/1/11-4/30/12
Far Eastern New Century Corporation (formerly known as Far Eastern Textiles Co., Ltd.)
Nan Ya Plastics Corporation
Thailand: Certain Frozen Warmwater Shrimp,³ A-549-822 | 2/1/11-1/31/12
The People's Republic of China:
Aluminum Extrusions,⁴ A-570-967 | 11/12/10-4/30/12
Acro Import and Import Corp.
Activa International Inc.
Alnan Aluminium Co., Ltd.
Changshu Changsheng Aluminum Products Co., Ltd.
Changzhou Changfa Power Machinery Co., Ltd.
Changzhou Changzheng Evaporator Co., Ltd.
Changzhou Tenglong Auto Parts Co., Ltd.
Clear Sky Inc.
Dongguan Aoda Aluminum Co., Ltd.
Dongguan Golden Tiger Hardware Industrial Co., Ltd. No. 96
Dynamic Technologies China Ltd.
Foshan City Nanhai Hongjia Aluminum Alloy Co., Ltd.
Foshan Shunde Aoneng Electrical Appliances Co., Ltd.
Foshan Yong Li Jian Alu. Ltd.
Global PMX (Dongguan) Co., Ltd.
Gold Mountain International Development, Limited
Gree Electric Appliances, Inc. of Zhuhai
Guang Dong Xin Wei Aluminum Products Co., Ltd.
Guangdong Nanhai Foodstuffs Imp. & Exp. Co., Ltd.
Guangdong Whirlpool Electrical Appliances Co., Ltd.
Guangya Aluminum Industrial Co., Ltd.
Guangzhou Mingcan Die-Casting Hardware Products Co., Ltd.
Hangzhou Xingyi Metal Products Co., Ltd.
Hanyung Alcobis Co., Ltd.
Henan New Kelong Electrical Appliances, Co., Ltd.
IDEX Dinglee Technology (Tianjin) Co., Ltd.
Isource Asia Limited and affiliates
Jiangsu Changfa Refrigeration Co., Ltd.
Jiaxing Jackson Travel Products Co., Ltd.
Jiaxing Taixin Metal Products Co., Ltd.
Jiuyuan Co., Ltd.
Justhere Co., Ltd.
Kromet International, Inc.
Kunshan Giant Light Metal Technology Co., Ltd.
Metaltek Group Co., Ltd.
Metaltek Metal Industry Co., Ltd.
Midea Air-Conditioning Equipment Co., Ltd.
Midea International Trading Co., Ltd.
Nidec Sankyo Singapore Pte. Ltd.
Nidec Sankyo (Zhejang) Corporation
Ningbo Coaster International Co., Ltd.
North China Aluminum Co., Ltd. and affiliates
Pingguo Asia Aluminum Co., Ltd.
Shandong Huasheng Pesticide Machinery Co.
Shanghai Dongsheng Metal
Shanghai Shen Hang Imp. & Exp. Co., Ltd.
Shanghai Tongtai Precise Aluminum Alloy Manufacturing Co., Ltd.
Shenzhen Hudson Technology Development Co., Ltd.
Sihui Shi Guo Yao Aluminum Co., Ltd.
Skyline Exhibit Systems (Shanghai) Co., Ltd. Skyline
Sincere Profit Limited
Suzhou JRP Import & Export Co., Ltd.
Suzhou NewHongji Precision Part Co., Ltd.
Taishan City Kam Kiu Aluminum Extrusion Co., Ltd.
Taizhou Lifeng Manufacturing Corporation
Tianjin Gangly Nonferrous Metal Materials Co., Ltd.
Tianjin Jinmao Import & Export Corp., Ltd.
Tiashan City Kam Kiu Aluminium Extrusion Co., Ltd.
Union Industry (Asia) Co., Ltd. Xin Wei Aluminum Co., Ltd.
Xin Wei Aluminum Company Limited
Zhaoqing New Zhongya Aluminum Co., Ltd a.k.a. Guangdong Zhongya Aluminum Company Limited
Zhejuang Zhengte Group Co., Ltd.
Zhejiang Xinlong Industry Co., Ltd.
Zhongshan Gold Mountain Aluminum Factory Ltd.
Zhaoquing Asia Aluminum Factory
Zhuhai Runxingtai Electrical Equipment Co., Ltd.
Certain Activated Carbon,⁵ A-570-904 | 4/1/11-3/31/12
Tancarb Activated Carbon Co., Ltd.
Certain Oil Country Tubular Goods,⁶ A-570-943 | 5/1/11-4/30/12
Angang Group New Steel Co., Ltd.
Angang Steel Co. Ltd.
Anhui Tianda Oil Pipe Co.
Anshan Xin Yin Hong Petroleum and Gas Tubular Co.
Anshan Zhongyou TIPO Pipe & Tubing Co., Ltd.
Anton Tongao Technology Industry Co. Ltd.
Anyang Iron & Steel Group Ltd.—Seamless
Aofei Tele Dongying Import & Export Co., Ltd.
Baoji Petroleum Steel Pipe (BSG)
Baoji Sumitomo Metal Petroleum Steel Pipe
Baolai Steel Pipe
Baoshan Iron & Steel Co. Ltd.
Baosteel Group Shanghai Steel Tube
Baotou Found Petroleum Machinery Co. Ltd.
Baotou Iron & Steel
Bazhou Zhuofa Steel Pipe Co., Ltd.
Beihai Steel Pipe Corporation
Beijing Changxing Kaida Composite Material Development Co., Ltd.
Beijing Shouhang Science-Technology Development Company
Beijing Youlu Co., Ltd.
Benxi Northern Steel Pipes Co., Ltd.
Cangzhou City Baohai Petroleum Material Co., Ltd.
Cangzhou OCTG Company Limited of Huabei Oilfield
Changshu Seamless Steel Tube
Changzhou Bao-Steel Tube
Changzhou Darun Steel Tube Co., Ltd.
Changzhou Hong Ping Material Supply Co., Ltd.
Changzhou Huixiang Petroleum Machinery Co., Ltd.
Changzhou Shengde Seamless Pipe Co., Ltd.
Changzhou Steel Pipe Factory
ChangZhou TaoBang Petroleum Tube Co., Ltd.
Changzhou Tongchuang Tube Industry Co. Ltd.
Changzhou Tong Xing Steel Tube Co.
Changzhou Yuan Yang Steel Tube Co.
Chengdu Wanghui Petroleum Pipe Co., Ltd.
China Hebei Xinyuantai Steel Pipe Co.
China Oilfield Services Limited
Chongqing Petroleum Special Pipeline Factory of CNPC Sichuan Petroleum Goods & Material Supply Corp.
CNOOC Kingland Pipeline Corp.
Dagang Oilfield Group New Century Machinery Manufacturing Co., Ltd.
Dalipal Pipe Company
Daqing High-Tech Zone Hua Rui Ke Pipe Manufacturing Co.
Daqing Petroleum Equipment Group
Daye Xinye Special Steel Company Limited
De Zhou Guang Hua Petroleum Machinery Company Limited
De Zhou United Petroleum Machinery Company Limited
Dingbian County Huayou Trading Company Limited
Dongying City Meiyang Petroleum Pipe & Fittings Co., Ltd.
Dongying Heli Petroleum Machinery Company Limited
Etco (China) International Trading Co., Ltd.
Faray Petroleum Steel Pipe Co., Ltd.
Freet Petroleum Equipment Co., Ltd. of Shengli Oil Field, The Thermal Recovery, Zibo Branch
The Freet Group
Field Construction Bohai Equipment Services
First Machinery Works of North China Petroleum
General Machinery Plant of Shengli Petroleum Administration (Shengli Oil Field Shengli Petroleum Equipment Co., Ltd.)
Grant Prideco
Guanzheng Branch of Tangshan Jidong Petroleum Machinery Company, Ltd.
Guangzhou Hongda Steel Tube
Guangzhou Iron and Steel
Guangzhou Juyi Steel Pipes Company Limited
Haerbin City Weilian Mechanical Manufacturing Company Limited
Haicheng Northern Steel Pipe Anti-Corrosion Company Limited
Handan Precise Seamless Steel Pipes Co., Ltd.
Hao Ying Qiqihaer in Northeast Special Steel Co., Ltd.
Hebei ChangFeng Steel Tube Manufacture Group
Hebei Litonglian Seamless Steel Pipe
Hebei Puyang Iron and Steel Company Limited
Hebei Xinlian Petroleum Machinery Company Limited
Hebei Xinyuantai Steel Pipe Group Co., Ltd.
Hebei Yi Xin Petroleum Pipe Company Limited
Hebei Zhongyuan Steel Pipe Manufacturing Co., Ltd.
Henan Nanyang Oilfield Machinery Manufacturing Company Limited
Henan Zyzj Petroleum Equipment
HengShui JingHua Steel Pipe Co.
Heyi Steel Tube
HG Tubulars Limited
Highgrade Tubular Manufacturing (Tianjin) Co., Ltd.
HillHead
HSC (Chengdu) Seamless Steel Pipe Co., Ltd.
Hong Kong Gallant Group Ltd.
Huai'an Zhenda Steel Tube Manufacturing Co., Ltd.
Hubei OCTG Machinery Co. (First)
Huludao Steel Pipe Industrial Co., Ltd.
Huludao City Steel Pipe Industrial Co.
Hengyang Valin Steel Tube Co.
Hengyang Valin MPM Tube Co., Ltd.
Hengyang Steel Tube Group
Jiangsu Benqiu Pipe Products Co
Jiangsu Changbao Steel Tube Co., Ltd.
Jiangsu Changbao Precision Tube Co., Ltd.
Jiangsu Chengde Steel Tube Share Co., Ltd.
Jiangsu Fanli Steel Pipe Co.
Jiangsu Huacheng Industry Group Co.
Jiangsu Huashun Steel Pipe Co.
Jiangsu Li'Ao Steel Tube Company Limited
Jiangsu Shined Petroleum Equipment Manufacturing Company Limited
Jiangsu Sujia Group Co., Ltd.
Jiangsu Wuxi Steel Group
Jiangsu Yulong Steel Pipe Company Limited
Jiangsu ZhenDa Steel Tube Group Co., Ltd.
Jiangyin Chuangxin Oil Pipe
Jiangyin City Changjiang Steel Pipe Co., Ltd.
Jiangyin City Seamless Steel Tube Factory
Jiangyin Hengyang Petroleum Machinery Company Limited
Jiangyin Jieda Shaped Tube Company Limited
Jiangyin Yashen Petroleum Pipe Company Limited
Jiangyin Yuhao Petroleum Pipe Company Limited
Jilin Baotong Petroleum Steel Pipe Company Limited
Jinan Iron and Steel Company
Jigang Group Co., Ltd.
Jinxi Steel Pipe Co.
Jiuquan Iron and Steel Group (JISCO)
Laiwu Iron and Steel Corporation
Langfang OTSMAN Special Petroleum Pipe Manufacture Company Limited
Liangshan Steel Pipe Company Limited
Liaocheng Jialong Tube Manufacture Company Limited
Liaoning Large-scale Steel Pipe Co., Ltd.
Liaoning Northern Steel Pipe Co.
Liaoning ShenYu Oil Pipe Manufacture Company Limited
Lingyuan Iron & Steel Company Limited
Linyi Sanyuan Steel Pipe Industry Company Limited
Liuzhou Iron and Steel
M&M Steel Pipe Co., Ltd.
Machinery Factory of Jilin Petroleum Group Co., Ltd.
Machinery Factory of Tuha Petroleum
MCC Liaoning Dragon Pipe Industries Company Limited
Nantong Hengte Tube Co., Ltd.
Ning Xia D.M.S. OCTG Company Limited
North China Petroleum Steel Pipe Co
Pancheng Yihong Pipe Company Limited
Pangang Group Beihai Steel Pipe Corporation
Pangang Group Chengdu Iron & Steel Co., Ltd.
Panyu ChuKong Steel Pipe Co.
Pipe and Tooling Center, Sinopec Southwest Company
Precision Pipe Manufacturing Branch of Liaoning Tianyi Industry Company
Puyang City Shuangfa Industry
Qiqihaer Haoying Iron & Steel Co of Northeast Special Steel Group
Rizhao Steel Holding Group Co., Ltd.
RiZhao ZhongShun Steel Pipe Manufacture Company Limited
RongSheng Machinery Manufacture Limited of Huabei Oilfield
Seamless Tube Mill of Baotou Steel Union
Shaanxi Yangchang Petroleum Material Company
Shandong Continental Petroleum Equipment Co., Ltd.
Shandong Dongbao Steel Pipe Co., Ltd.
Shandong Huabao Steel Pipe Co., Ltd.
Shandong Luxing Steel Tube Co.
Shandong Molong Petroleum Machinery Co., Ltd.
Shandong Nine-Ring Petroleum Machinery Co., Ltd.
Shandong Province Coalfield Geologic Drilling Tools Factory
Shandong Shengdong Oilfield Machinery Co., Ltd.
Shandong Shengli Tongxing Petroleum Pipe Manufacture Co., Ltd.
Shandong Xinchi Steel Pipe Manufacture Co., Ltd
Shandong Zhao Yu Petroleum Pipe Manufacture Co., Ltd.
Shanghai Baochen Oil Pipeline Materials Company Limited
Shanghai Baoshun Steel Tube Co., Ltd.
Shanghai Baoyi Industrial Company
Shanghai Kangxin Oil Pipe Manufacturing Co., Ltd.
Shanghai Mingsheng Industrial Co., Ltd.
Shanghai Yueyuechao Manufacture Tube Co.
Shanghai Zhongyou TIPO Steel Pipe Co., Ltd.
Shanxi Hongli Steel Tube Share Company Limited
Shanxi Guolian Pipe Industry Group Co., Ltd.
Shanxi Yuci Guolian Steel Pipe Co., Ltd.
Shengli General Engineering (The Thermal Recovery Equipment Manufactory of Shengli General Engineering)
Shengli Oil Field Freet Petroleum Equipment Co., Ltd.
Shengli Oil Field Freet Petroleum Steel Pipe Co., Ltd.
Shengli Oil Field Highland Petroleum Equipment Co., Ltd.
Shengli Oilfield Shengji Petroleum Equipment Co., Ltd
Shengli Petroleum Administration General Machinery Plant
Shenzhen Weisheng I.T.S. Petroleum Tubular & Equipment Co., Ltd.
Sichuan ChengJiWeiYe Steel Pipe Co., Ltd
Sichuan Huagong Petroleum Steel Pipe Co., Ltd.
Steel Pipe Works of North China Petroleum
Suzhou Friend Tubing and Casing Pipe Co., Ltd.
Suzhou Seamless Steel Tube Works
Taizhou Shuangyang Precision Seamless Steel Tube Co., Ltd.
Tangshan Sanjin Mingsheng Industry Development Co., Ltd.
Thermal Recovery Equipment Manufacturer of Shengli Oil Field
Freet Petroleum Equipment Co., Ltd.
Tianjin City Jinghai County Baolai Industrial and Trade Co.
Tianjin City Juncheng Seamless Tube Company Limited
Tianjin City Tian Yi Seamless Steel Tube Company Limited
Tianjin Coupling Heat Treatment Company Limited
Tianjin DeHua Petroleum Equipment Manufacturing Company Limited
Tianjin Hua Xin Premium Connections Pipe Co, Ltd.
Tianjin Huilitong Steel Tube Co., Ltd.
Tianjin Jingtong Seamless Steel Pipe Co., Ltd.
Tianjin Lida Steel Pipe Group Co., Ltd.
Tianjin Lifengyuanda Steel Group Co., Ltd.
Tianjin Liqiang Steel Pipe Co.
Tianjin Pipe Group Corporation
Tianjin Pipe Industry Developemnt Company
Tianjin Ring-Top Petroleum Manufacture Co., Ltd.
Tianjin Seamless Steel Pipe Plant
Tianjin Shengcaiyuan Steel Trading Co., Ltd.
Tianjin Shenzhoutong Steel Pipe Co. Ltd.
Tianjin Shuangjie Pipe Manufacturing Co., Ltd.
Tianjin Tiangang Special Petroleum Pipe Manufacturer Co., Ltd.
Tianjin Tianye Seamless Steel Pipe Plant Ltd.
Tianjin Tubular Goods Machining
Tianjin United Steel Pipe Co (UNISTEEL)
Tianjin Xingyuda Steel Pipe Co., Ltd.
Tianjin Zhongshun Industry Trade Co., Ltd.
TianJin ZhongShun Petroleum Steel Pipe Co., Ltd.
Tonghua Iron & Steel Group Panshi Seamless Steel Tube Company Limited
Tuha Petroleum Machinery
WSP Holdings Limited
Wuhan Wugang Group Hanyang Steel Factory
Wuxi Baoda Petroleum Special Pipe Manufacture Co., Ltd.
Wuxi City DeRui Seamless Steel Pipe Co.
Wuxi City DongQun Steel Tube Co.
Wuxi Dingyuan Precision Cold-Drawn Steel Pipe Co.
Wuxi Erquan Special Steel
Wuxi Fanyong Liquid Presses Tube Company Limited
Wuxi Fastube Dingyuan Precision Steel Pipe Co., Ltd.
Wuxi Fastube Industry Co.
Wuxi Horizon Petroleum Special Pipe Manufacture Company Limited
Wuxi Huayou Special Steel Co., Ltd.
Wuxi Huazin Petroleum Machine Company Limited
Wuxi Precese Special Steel Co., Ltd.
Wuxi Ruiyuan Special Steel Pipe Company Limited
Wuxi Seamless Oil Pipe Co., Ltd.
Wuxi SP, Steel Tube Manufacturing Co., Ltd.
Wuxi Xijin Petroleum Equipment Fittings Manufacturing Co., Ltd.
Wuxi Xingya Seamless Steel Tube Wuxi Zhen Dong Steel Pipe Works
Wuxi Zhenda Special Steel Tube Manufacturing Co., Ltd.
Xinjiang Petro Administration Bureau Machinery Manufacture General Company
Xinjiang Ster Petroleum Tubes and Pipes Manufacturing Co., Ltd.
Xigang Seamless Steel Tube Co., Ltd. XiNing Special Steel Co., Ltd
Xuzhou Guanghuan Steel Tube Co. Ltd. Yancheng Steel Tube Works Co., Ltd.
Yancheng Teda Special Pipe Co., Ltd. Yangzhou Chengde Steel Tube
Yangzhou Lontrin Steel Tube Co., Ltd.
Yantai KIYOFO Seamless Steel Pipe Company Limited
Yantai Steel Pipe Co., Ltd. of Laiwu Iron & Steel Group
Yantai Yuanhua Steel Tubes Company Limited
ZhangJiaGang ZhongYuan Pipe-Making Co.
Zhejiang Jianli Enterprise Co., Ltd.
Zhejiang Gross Seamless Steel Tube Co., Ltd.
Zhejiang Minghe Steel Pipe Co., Ltd.
Zhongshi Special Steel Tubes Co., Ltd.
Zibo Hongyang Petroleum Equipment Co., Ltd.
Zibo Pipe Manufacturing
Citric Acid and Citrate Salt,⁷ A-570-937 | 5/1/11-4/30/12
RZBC Co., Ltd., RZBC Imp. & Exp. Co., Ltd., RZBC (Juxian) Co., Ltd.
Yixing Union Biochemical Co., Ltd.
Pure Magnesium,⁸ A-570-832 | 5/1/11-4/30/12
Tianjin Magnesiun International Co., Ltd.
Tianjin Magnesium Metal Co., Ltd.
Turkey:
Circular Welded Carbon Steel Pipes and Tubes, A-489-501 | 5/1/11-4/30/12
Borusan Group and all affiliates
Borusan Mannesmann Boni Sanayi ye Ticaret A.S.
Borusan Istikbal Ticaret T.A.S.
Borusan Holding A.S.
Borusan Lojistik Dagitim Depolama Tasimacilik ye Tic A.S.
ERBOSAN Erciyas Born Sanayi ye Ticaret A.S.
Toscelik Profil ye Sac Endustrial A.S.
Toscelik Metal Ticaret A.S.
Tosyali Dis Ticaret A.S.
Yucel Group and all affiliates
Cayirova Boni Sanayi ye Ticaret A.S.
Yucel Born ye Profil Endustrisi A.S.
Yucelboru Ihracat Ithalat ye Pazarlama A.S.
Countervailing Duty Proceedings
The People's Republic of China:
Aluminum Extrusions, C-570-968 | 9/7/10-12/31/11
Acro Import and Export Corp.
Activa International Inc.
Alnan Aluminium Co., Ltd.
Changsha Hengjia Aluminum Co., Ltd.
Changshu Changsheng Aluminum Products Co., Ltd. (“Changsheng”)
Changzhou Changfa Power Machinery Co Ltd.
Changzhou Changzheng Evaporator Co., Ltd.
Changzhou Tenglong Auto Parts Co., Ltd.
Clear Sky Inc.
Dongguan Aoda Aluminum Co., Ltd.
Dongguan Golden Tiger Hardware Industrial Co., Ltd. No. 96 (“Golden Tiger”)
Dynamic Technologies China Ltd.
Foreign Trade Co. of Suzhou New & Hi-Tech Industrial Development Zone (“Suzhou New & Hi-Tech”)
Foshan City Nanhai Hongjia Aluminum Alloy Co., Ltd. (“Hongjia”)
Foshan Yong Li Jian Alu. Ltd.
Global PMX (Dongguan) Co., Ltd. (“Global PMX”)
Golden Dragon Precise Copper Tube Group Inc.
Gree Electric Appliances, Inc. of Zhuhai
Guandong Nanhai Foodstuffs Imp & Exp Co, Ltd. (“Nanhai”)
Guangdong Foreign Trade Imp. & Exp. Corp.
Guangdong Grand Shine Construction Material, Co., Ltd.
Guangdong Whirlpool Electrical Appliances Co. Ltd. (“Guangdong Whirlpool”)
Guangya Aluminum Industrial Co., Ltd. (“Guangya”)
Guangzhou Mingcan Die-Casting Hardware Products Co., Ltd.
Hangzhou Xingyi Metal Products Co., Ltd.
Hanyung Alcobis Co., Ltd.
Henan New Kelong Electrical Appliances, Co., Ltd.
Huimeigao Aluminum Foshan Co., Ltd. (“Huimeigao”)
IDEX Dinglee Technology (Tianjin) Co., Ltd. (“IDEX Dinglee”)
Isource Asia Limited (“Isource”)
Jiangsu Changfa Refrigeration Co., Ltd.
Jiaxing Jackson Travel Products Co., Ltd.
Jiaxing Taixin Metal Products Co., Ltd.
Jiuyuan Co., Ltd.
Justhere Co., Ltd.
Kromet International Inc. (“Kromet”)
Kunshan Giant Light Metal Technology Co., Ltd. (“Giant”)
Mei Ya Bao Aluminum Co., Ltd. (“MYB”)
Metaltek Group Co., Ltd.
Metaltek Metal Industry Co., Ltd.
Midea Air-Conditioning Equipment Co., Ltd.
Midea International Trading Co., Ltd.
Nidec Sankyo (Zhejang) Corporation
Nidec Sankyo Singapore Pte. Ltd.
Ningbo Coaster International Co., Ltd.
North China Aluminum Co. Ltd.
Pingguo Asia Aluminium Co., Ltd. (“Pingguo”)
Shangdong Huasheng Pesticide Machinery Co.
Shanghai Dongsheng Metal
Shanghai Shen Hang Imp. & Exp. Co., Ltd
Shanghai Tongtai Precise Aluminum Alloy Manufacturing Co. Ltd. (“Tongtai”)
Shanxi Guanly Changzhou Hongfeng Metal Processing Co., Ltd.
Shenzhen Hudson Technology Development Co., Ltd. (Shenzhen Hudson)
Shunde Aoneng Electrical Appliances Co., Ltd
Sihui Shi Guo Yao Aluminum Co., Ltd. (“Guo Yao”)
Sincere Profit Limited
Skyline Exhibit Systems (Shanghai) Co., Ltd.
Suzhou JRP Import & Export Co., Ltd. (“JRP”)
Suzhou NewHongji Precision Part Co., Ltd. (“Suzhou NewHongji”)
Taishan City Kam Kiu Aluminum Extrusion Co., LTD.
Taizhou Lifeng Manufacturing Corporation
Tianjin Gangly Nonferrous Metal Materials Co., Ltd. (“Tianjin Gangly”)
Tianjin Jinmao Import & Export Corp., Ltd.
Union Industry (Asia) Co., Ltd.
Xin Wei Aluminum Company Limited, Guang Dong Xin Wei Aluminum Products Co., Ltd., and Xin Wei Aluminum Co., Ltd. (collectively “Xin Wei”)
Zhaoqing Asia Aluminum Factory Company Limited (“ZAA”)
Zhaoqing New Zhongya Aluminum Co., Ltd. (now operating as Guangdong Zhongya Aluminum Company Limited)
Zhejiang Xinlong Industry Co., Ltd.
Zhejiang Zhengte Group Co., Ltd. (“Zhengte”)
Zhongshan Gold Mountain Aluminium Factory Ltd., Gold Mountain International Development, Limited (collectively, “Zhongshan Gold Mountain”)
Zhuhai Runxingtai Electrical Equipment Co., Ltd. (“Zhuhai Runxingtai”)
Citric Acid and Citrate Salts, C-570-938 | 1/1/11-12/31/11
RZBC Co., Ltd., RZBC Imp. & Exp. Co., Ltd., RZBC (Juxian) Co., Ltd.
Yixing Union Biochemical Co., Ltd.
Suspension Agreements
None.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

³ On April 2, 2012, the Department published a notice of initiation of administrative reviews for the orders covering certain frozen warmwater shrimp (shrimp) from Brazil, India, and Thailand. See Certain Frozen Warmwater Shrimp from Brazil, India, and Thailand: Notice of Initiation of Antidumping Duty Administrative Reviews and Request for Revocation of Order in Part, 77 FR 19612 (April 2, 2012). This notice should have also indicated that the Department received a timely request to revoke, in part, the antidumping duty order on shrimp from Thailand with respect to one exporter.

⁴ If one of the above-named companies does not qualify for a separate rate, all other exporters of Aluminum Extrusions from the PRC who have not qualified for a separate rate are deemed to be covered by this review as part of the single PRC entity of which the named exporters are a part.

⁵ This company was inadvertently omitted from the initiation notice that published on May 29, 2012 (77 FR 31568).

⁶ If the above-named company does not qualify for a separate rate, all other exporters of Certain Oil Country Tubular Goods from the PRC who have not qualified for a separate rate are deemed to be covered by this review as part of the single PRC entity of which the named exporters are a part.

⁷ If the above-named company does not qualify for a separate rate, all other exporters of Citric Acid and Citrate Salt from the PRC who have not qualified for a separate rate are deemed to be covered by this review as part of the single PRC entity of which the named exporters are a part.

⁸ If the above-named company does not qualify for a separate rate, all other exporters of Pure Magnesium from the PRC who have not qualified for a separate rate are deemed to be covered by this review as part of the single PRC entity of which the named exporters are a part.

For the first administrative review of any order, there will be no assessment of antidumping or countervailing duties on entries of subject merchandise entered, or withdrawn from warehouse, for consumption during the relevant provisional-measures “gap” period, of the order, if such a gap period is applicable to the period of review.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Any party submitting factual information in an antidumping duty or countervailing duty proceeding must certify to the accuracy and completeness of that information. See section 782(b) of the Act. Parties are hereby reminded that revised certification requirements are in effect for company/government officials as well as their representatives in all segments of any antidumping duty or countervailing duty proceedings initiated on or after March 14, 2011. See Certification of Factual Information to Import Administration During Antidumping and Countervailing Duty Proceedings: Interim Final Rule, 76 FR 7491 (February 10, 2011) (“Interim Final Rule”), amending 19 CFR 351.303(g)(1) and (2). The formats for the revised certifications are provided at the end of the Interim Final Rule. The Department intends to reject factual submissions in any proceeding segments initiated on or after March 14, 2011 if the submitting party does not comply with the revised certification requirements.

These initiations and this notice are in accordance with section 751(a) of the Act (19 U.S.C. 1675(a)) and 19 CFR 351.221(c)(1)(i).

Dated: June 21, 2012.
Christian Marsh,
Deputy Assistant Secretary, for Antidumping and Countervailing Duty Operations.

[FR Doc. 2012-16154 Filed 7-9-12; 8:45 am]

BILLING CODE 3510-DS-M